DEPARTMENT OF DEFENSE

Department of the Army

[Docket ID USA-2009-0012]

Privacy Act of 1974; System of Records

AGENCY: Department of the Army, DoD.

ACTION: Notice to add a System of Records.

SUMMARY: The Department of the Army is proposing to add a system of records to its existing inventory of records systems subject to the Privacy Act of 1974, (5 U.S.C. 552a), as amended.

DATES: The proposed action will be effective on June 1, 2009 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Leroy Jones at (703) 428-6185.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on April 24, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: April 24, 2009.
Morgan E. Frazier,
Alternate OSD Federal Register Liaison Officer, Department of Defense.

A0350-1b TRADOC

System name:

Army Career Tracker (ACT).

System location:

Army commands, installations and activities. Addresses for the above may be obtained from the Commander, Headquarters, U.S. Army Training and Doctrine Command, Noncommissioned Officer Program Management Office (ATCG-NC), 5A North Gate Road, Fort Monroe, VA 23651-1048.

Categories of individuals covered by the system:

Department of the Army military members and civilians employed by the U.S. Government.

Categories of records in the system:

Course and training data to include name, grade/rank, Social Security Number (SSN), address, service component, branch, personnel classification, military status, military occupational specialty, credit hours accumulated, examination and lesson grades, student academic status, curricula, course description, scheduling, testing, academic, graduation, individual goals, personnel and attrition data.

Authority for maintenance of the system:

10 U.S.C. 3013, Secretary of the Army; Army Regulation 350-1, Army Training and Leader Development; and E.O. 9397 (SSN).

Purpose(s):

The Army Career Tracker will receive training, education, experiential learning, personal and biographical data from several Army information systems and present a comprehensive and personalized view of Noncommissioned Officer, Officer, and Army Civilian career history, course enrollment, course completion, and course catalog information.

Routine uses of records maintained in the system, including categories of users and the purposes of such uses:

In addition to those disclosures generally permitted under 5 U.S.C. 552a(b) of the Privacy Act if 1974, these records contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper printouts and electronic storage media.

Retrievability:

Individual's name (Army Knowledge Online User Identification).

Safeguards:

Access to the system is restricted to authorized personnel only with Army Knowledge Online sign-on and password authorization. Records are maintained within secured buildings in areas accessible only to persons having an official need-to-know and who therefore are properly trained and screened.

Retention and disposal:

Records on local training and individual goals are maintained until no longer needed for conducting business, but not longer than 6 years, then destroyed. Destroy electronic media by deletion; destroy paper printout by shredding or burning.

System manager(s) and address:

Commander, Headquarters, U.S. Army Training and Doctrine Command, Noncommissioned Officer Program Management Office (ATCG-NC), 5A North Gate Road, Fort Monroe, VA 23651-1048.

Commander, Headquarters, U.S. Army Training and Doctrine Command, Privacy Act Officer (ATIM-II), 84 Patch Road, Building 162, Fort Monroe, VA 23651-1051.

Notification procedure:

Individuals seeking to determine if information about themselves is contained in this system should address written inquiries to the Commander, Headquarters, U.S. Army Training and Doctrine Command, Noncommissioned Officer Program Management Office (ATCG-NC), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking access to information about themselves contained in this system should address written inquiries to the Commander, Headquarters, U.S. Army Training and Doctrine Command, Noncommissioned Officer Program Management Office (ATCG-NC), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, contesting contents and appealing initial agency determinations are contained in Army Regulation 340-21; 32 CFR part 505; or may be obtained from the system manager.

Record source categories:

Information is received from the individual, DoD staff, and personnel and training systems.

Exemptions claimed for the system:

None.

[FR Doc. E9-9911 Filed 4-29-09; 8:45 am]

BILLING CODE 5001-06-P